SECURITIES AND EXCHANGE COMMISSION

[File No. 500-1]

In the Matter of ATP Oil & Gas Corp., Cambridge Holdings, Ltd., FTE Networks, Inc., Raystream, Inc., and Shelron Group, Inc.; Order of Suspension of Trading

August 20, 2014.

It appears to the Securities and Exchange Commission that there is a lack of current and accurate information concerning the securities of ATP Oil & Gas Corp. because it has not filed any periodic reports since the period ended March 31, 2012.

It appears to the Securities and Exchange Commission that there is a lack of current and accurate information concerning the securities of Cambridge Holdings, Ltd. because it has not filed any periodic reports since the period ended September 30, 2011.

It appears to the Securities and Exchange Commission that there is a lack of current and accurate information concerning the securities of FTE Networks, Inc. because it has not filed any periodic reports since the period ended June 30, 2012.

It appears to the Securities and Exchange Commission that there is a lack of current and accurate information concerning the securities of Raystream, Inc. because it has not filed any periodic reports since the period ended July 31, 2012.

It appears to the Securities and Exchange Commission that there is a lack of current and accurate information concerning the securities of Shelron Group, Inc. because it has not filed any periodic reports since the period ended December 31, 2012.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on August 20, 2014, through 11:59 p.m. EDT on September 3, 2014.

By the Commission.
Jill M. Peterson,
Assistant Secretary.

[FR Doc. 2014-20112 Filed 8-20-14; 4:15 pm]

BILLING CODE 8011-01-P